SUSQUEHANNA RIVER BASIN COMMISSION

Notice of Public Hearing and Commission Meeting

AGENCY: Susquehanna River Basin Commission.

ACTION: Notice of public hearing and commission meeting.

SUMMARY: The Susquehanna River Basin Commission will hold a public hearing as part of its regular business meeting on March 10, 2011, in Huntingdon, Pa. At the public hearing, the Commission will consider: (1) Action on certain water resources projects; (2) the rescission of ten docket approvals; (3) action on three projects involving a diversion; and (4) the request of Marvin Fetterman to reopen Docket No. 20091201. Details concerning the matters to be addressed at the public hearing and business meeting are contained in the Supplementary Information section of this notice.

DATES: March 10, 2011, at 8:30 a.m.

ADDRESSES: Juniata College, William J. von Liebig Center for Science, 1700 Moore Street, Huntingdon, Pa. 16652 (for directions and campus map, see Web page http://www.juniata.edu/about/visit/directions.html).

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net.

SUPPLEMENTARY INFORMATION: In addition to the public hearing and its related action items identified below, the business meeting also includes actions or presentations on the following items: (1) The Morrison Cove Water Resources Study; (2) hydrologic conditions in the basin and strategies for stream gages; (3) administrative approval of flowback reuse involving diversions; (4) a demonstration of the Commission's Web-based Water Resource Portal; (5) a preliminary introduction to dockets; (6) administrative fee authorization for group transfers of approvals; (7) a Migratory Fish Restoration and Management Plan for the Susquehanna River Basin; (8) a request to initiate National Environmental Policy Act (NEPA) Phase of Potential Revision of Low-Flow Regulation at the Cowanesque and Curwensville Lakes; (9) revision of FY-2012 Budget; and 10) ratification/approval of contracts. The Commission will also hear Legal Counsel's report.

Public Hearing—Projects Scheduled for Rescission Action

1. Project Sponsor and Facility: Chief Oil & Gas LLC (Sugar Creek) (Docket No. 20090314), West Burlington Township, Bradford County, Pa.

2. Project Sponsor and Facility: Range Resources—Appalachia, LLC (Lycoming Creek-1) (Docket No. 20080933), Hepburn Township, Lycoming County, Pa.

3. Project Sponsor and Facility: Range Resources—Appalachia, LLC (West Branch Susquehanna River) (Docket No. 20080940), Colebrook Township, Clinton County, Pa.

4. Project Sponsor and Facility: Southwestern Energy Company (Cold Creek) (Docket No. 20090909), Herrick Township, Bradford County, Pa.

5. Project Sponsor and Facility: Southwestern Energy Company (Mill Creek) (Docket No. 20090910), Stevens Township, Bradford County, Pa.

6. Project Sponsor and Facility: Southwestern Energy Company (Ross Creek) (Docket No. 20090911), Stevens Township, Bradford County, Pa.

7. Project Sponsor and Facility: Southwestern Energy Company (Tunkhannock Creek) (Docket No. 20090913), Gibson Township, Susquehanna County, Pa.

8. Project Sponsor and Facility: Southwestern Energy Company (Wyalusing Creek) (Docket No. 20090915), Wyalusing Township, Bradford County, Pa.

9. Project Sponsor and Facility: Southwestern Energy Company (Lycoming Creek) (Docket No. 20091208), Lewis Township, Lycoming County, Pa.

10. Project Sponsor and Facility: SVC Manufacturing, Inc. (Docket No. 19920907), Fairview Township, Luzerne County, Pa.

Public Hearing—Projects Scheduled for Action

1. Project Sponsor and Facility: Airy View Heights, Inc., Centre Township, Perry County, Pa. Application for groundwater withdrawal of up to 0.465 mgd from Well PW-5.

2. Project Sponsor and Facility: ALTA Operating Company, LLC (DuBois Creek), Great Bend Township, Susquehanna County, Pa. Application for surface water withdrawal of up to 0.249 mgd.

3. Project Sponsor and Facility: Anadarko E&P Company LP (West Branch Susquehanna River), Colebrook Township, Clinton County, Pa. Application for surface water withdrawal of up to 1.500 mgd.

4. Project Sponsor and Facility: Anadarko E&P Company LP (West Branch Susquehanna River-3), Nippenose Township, Lycoming County, Pa. Modification to increase maximum instantaneous pumping rate within approved daily rate.

5. Project Sponsor and Facility: Cedar Rock Materials Corp., Salem Township, Luzerne County, Pa. Application for groundwater withdrawal of up to 0.720 mgd from Well PW-1.

6. Project Sponsor and Facility: Cedar Rock Materials Corp., Salem Township, Luzerne County, Pa. Application for consumptive water use of up to 0.700 mgd.

7. Project Sponsor and Facility: Chesapeake Appalachia, LLC (Susquehanna River), Braintrim Township, Wyoming County, Pa. Application for surface water withdrawal of up to 3.000 mgd.

8. Project Sponsor and Facility: Chief Oil & Gas LLC (Martins Creek), Hop Bottom Borough, Susquehanna County, Pa. Application for surface water withdrawal of up to 0.360 mgd.

9. Project Sponsor: Dean Dairy Holdings, LLC. Project Facility: Swiss Premium Dairy, LLC, North Cornwall Township, Lebanon County, Pa. Modification to increase consumptive water use of up to 0.200 mgd.

10. Project Sponsor and Facility: East Donegal Township Municipal Authority, East Donegal Township, Lancaster County, Pa. Application for groundwater withdrawal of up to 0.260 mgd from Well 1.

11. Project Sponsor and Facility: Ephrata Area Joint Authority, Ephrata Borough, Lancaster County, Pa. Application for groundwater withdrawal of up to 1.210 mgd from Well 1.

12. Project Sponsor: Hazleton Creek Properties, LLC. Project Facility: Hazleton Mine Reclamation, Hazleton City, Luzerne County, Pa. Application for groundwater withdrawal of up to 0.055 mgd from Well MP-1.

13. Project Sponsor: Hazleton Creek Properties, LLC. Project Facility: Hazleton Mine Reclamation, Hazleton City, Luzerne County, Pa. Application for consumptive water use of up to 0.055 mgd.

14. Project Sponsor and Facility: J-W Operating Company (Abandoned Mine Pool—Unnamed Tributary to Finley Run), Shippen Township, Cameron County, Pa. Application for surface water withdrawal of up to 0.090 mgd.

15. Project Sponsor and Facility: Novus Operating, LLC (Tioga River), Covington Township, Tioga County, Pa. Application for surface water withdrawal of up to 1.750 mgd.

16. Project Sponsor and Facility: Peoples Financial Services Corp. (Tunkhannock Creek), Tunkhannock Township, Wyoming County, Pa. Application for surface water withdrawal of up to 0.990 mgd.

17. Project Sponsor and Facility: Range Resources—Appalachia, LLC (West Branch Susquehanna River), Piatt Township, Lycoming County, Pa. Application for surface water withdrawal of up to 3.000 mgd.

18. Project Sponsor and Facility: Southwestern Energy Company (Martins Creek), Brooklyn and Harford Townships, Susquehanna County, Pa. Application for surface water withdrawal of up to 0.997 mgd.

19. Project Sponsor and Facility: Southwestern Energy Company (Tuscarora Creek), Tuscarora Township, Bradford County, Pa. Application for surface water withdrawal of up to 0.500 mgd.

20. Project Sponsor: Spectra Energy Transmission, LLC. Project Facility: TEMAX/TIME III Pipeline (Susquehanna River), East Donegal Township, Lancaster County, Pa. Application for surface water withdrawal of up to 2.880 mgd.

21. Project Sponsor and Facility: Victory Energy Corporation (Pine Creek), Pike Township, Potter County, Pa. Application for surface water withdrawal of up to 0.460 mgd.

Public Hearing—Projects Scheduled for Action Involving a Diversion

1. Project Sponsor: Pennsylvania General Energy Company, L.L.C. Project Facility: Scaffold Lick Pond—1, Liberty Township, McKean County, Pa. Application for an existing into-basin diversion of up to 0.500 mgd from the Ohio River Basin.

2. Project Sponsor: Pennsylvania General Energy Company, L.L.C. Project Facility: Scaffold Lick Pond—2, Liberty Township, McKean County, Pa. Application for an existing into-basin diversion of up to 0.500 mgd from the Ohio River Basin.

3. Project Sponsor: Ultra Resources, Inc. Project Facility: Wayne Gravel Products, Ceres Township, McKean County, Pa. Application for an existing into-basin diversion of up to 1.170 mgd from the Ohio River Basin.

Public Hearing—Request of Marvin Fetterman To Reopen Docket No. 20091201

• Mr. Marvin Fetterman has requested that the Commission, upon its own motion, reopen for further review and comment Commission Docket No. 20091201—Chesapeake Appalachia, LLC; withdrawal from Susquehanna River near Great Bend, Susquehanna County, Pennsylvania. This request is made pursuant to Commission Regulation 18 CFR § 806.32, under which the Commission may reopen any project approval and make new orders or impose additional conditions to mitigate or avoid adverse impacts or otherwise protect the public health, safety or welfare.

Opportunity To Appear and Comment

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Stephanie L. Richardson, Secretary to the Commission, e-mail: srichardson@srbc.net. Comments mailed or electronically submitted must be received prior to March 4, 2011, to be considered.

Authority: Pub. L. 91-575, 84 Stat. 1509 et seq., 18 CFR parts 806, 807, and 808.

Dated: February 8, 2011.
Thomas W. Beauduy,
Deputy Executive Director.

[FR Doc. 2011-3686 Filed 2-17-11; 8:45 am]

BILLING CODE 7040-01-P